FEDERAL COMMUNICATIONS COMMISSION

47 CFR Part 54

[CC Docket No. 96-45; FCC 05-46]

Office of Management and Budget Approval of Public Information Collections

AGENCY: Federal Communications Commission.

ACTION: Final rule; announcement of effective date.

SUMMARY: The Federal Communications Commission received Office of Management and Budget (OMB) approval for the information collections contained in sections 54.202 and 54.209 of the Commission's rules, 47 CFR 54.202 and 54.209 on October 14, 2005, as published in the Federal Register on November 2, 2005, at 70 FR 66407.

DATES: Sections 54.202 and 54.209 of the Commission's rules, 47 CFR 54.202 and 54.209 published at 70 FR 29978, May 25, 2005 became effective on October 14, 2005.

FOR FURTHER INFORMATION CONTACT: Thomas Butler, Federal Communications Commission, 445 12th Street, SW., Washington, DC 20554, (202) 418-1492, or via the Internet at Thomas.Butler@fcc.gov.

SUPPLEMENTARY INFORMATION: OMB Control No.: 3060-1081.

OMB Approval Date: 10/14/2005.

Expiration Date: 10/31/2008.

Title: Federal-State Joint Board on Universal Service, CC Docket No. 96-45, Report and Order, 70 FR 29960, May 25, 2005.

Form No.: N/A.

Estimated Annual Burden: 22 responses; 242 total annual burden hours; approximately 11 hours average per respondent.

Needs and Uses: In the Report and Order, the Commission adopted additional mandatory requirements for eligible telecommunication carrier (ETC) designation proceedings in which the Commission acts pursuant to section 214(e)(6) of the Communications Act of 1934, as amended (the Act). Consistent with the recommendations of the Federal-State Joint Board on Universal Service, and expanding the mandatory requirements, the Commission adopted rules 54.202 and 54.209, 47 CFR 54.202, 54.209, which imposed additional requirements for designation and annual certifications. These requirements ensure that ETCs continue to comply with the conditions of the ETC designation and that universal service funds are used for their intended purposes. Specifically, every ETC must submit, on an annual basis: (1) Progress reports on the ETC's five-year service quality improvement plan; (2) detailed information on any outage lasting at least 30 minutes; (3) the number of unfulfilled requests for service from potential customers within its service areas; (4) the number of complaints per 1,000 handsets or lines; (5) certification that the ETC is complying with applicable service quality standards and consumer protection rules; (6) certification that the ETC is able to function in emergency situations; (7) certification that the ETC is offering a local usage plan comparable to that offered by the incumbent local exchange carrier (LEC) in the relevant service areas; and (8) certification that the carrier acknowledges that the Commission may require it to provide equal access within the service area. The Commission will use the information collected to ensure that each ETC satisfies its obligation under section 214(e) of the Act to provide services supported by the universal service mechanism throughout the area for which each ETC is designation. The Commission published notice of this OMB approval in the Federal Register on November 2, 2005, 70 FR 66407, November 2, 2005.

Federal Communications Commission.
Marlene H. Dortch,
Secretary.

[FR Doc. E7-23280 Filed 11-30-07; 8:45 am]

BILLING CODE 6712-01-P